DEPARTMENT OF HEALTH AND HUMAN SERVICES

Administration on Aging

Public Information Collection Requirement Proposed To Be Submitted to the Office of Management and Budget (OMB) for Clearance

AGENCY: Administration on Aging (AoA), DHHS.

The Administration on Aging (AoA), Department of Health and Human Services, is submitting the following proposal for the collection of information in compliance with the Paperwork Reduction Act (Public Law 96-511): Title VI Program Performance Reports.

Title of Information Collection: Administration on Aging Title VI Program Performance Report.

Type of Request: Extension.

Use: To continue an existing information collection, Title VI Program Performance Report, from Title VI grantees to use in reporting information on programs funded by Title VI as required under Section 202(a)(19), Section 614(a)(3) of the Older Americans Act, as amended.

Frequency: Semi-Annually.

Respondent: Tribal Organizations and Non-profit Organizations representing Native Hawaiians.

Estimated Number of Responses: 227.

Estimated Burden Hours: 681.

Additional Information or Comments: The AoA announced the continuation of use of the Title VI Program Performance Reports in the Federal Register on November 9, 1999.

There were no responses to the 60-day notice.

Requests for a copy of the above mentioned Program Performance Report call M. Yvonne Jackson, Director, Office for American Indian, Alaskan Native and Native Hawaiian Programs, Administration on Aging, 330 Independence Avenue, SW, Washington, DC 20201; telephone (202) 619-2713. Written comments and recommendations regarding the Program Performance Report should be sent within 30 days of the publication of this notice to the following address: Office of Information and Regulatory Affairs, Attention: Allison Eydt, OMD Desk Officer, Office of Management and Budget, Washington, DC 20503.

Dated: March 15, 2000.
Jeanette C. Takamura,
Assistant Secretary for Aging.

[FR Doc. 00-8607 Filed 4-6-00; 8:45 am]

BILLING CODE 4154-01-M